DEPARTMENT OF HOMELAND SECURITY

Transportation Security Administration

Notification of Conversion of Checks Payable to TSA to Electronic Funds Transfers (EFTs)

AGENCY: Transportation Security Administration, DHS.

ACTION: Notice.

SUMMARY: This Notice informs the public that checks submitted to the Transportation Security Administration (TSA) will be converted by the Federal Reserve Banking system into electronic funds transfers (EFTs). Paper checks will no longer be returned to the payer. This procedure will be implemented on or about August 17, 2006.

FOR FURTHER INFORMATION CONTACT: Kurt Snyder, Office of Financial Management, TSA-14, Transportation Security Administration, 601 South 12th Street, Arlington, VA 22202-4220; telephone (571) 227-1437; facsimile (571) 227-2599; e-mail Finance@dhs.gov.

SUPPLEMENTARY INFORMATION:

Availability of Document

You can get an electronic copy using the Internet by accessing the Government Printing Office's Web page at http://www.gpoaccess.gov/fr/index.html.

In addition, copies are available by writing or calling the individual in the FOR FURTHER INFORMATION CONTACT section.

Background

The Federal Reserve Bank, United States Department of the Treasury, has mandated that checks received by Federal Government agencies be converted into electronic funds transfers (EFTs). This procedure will be implemented by the Federal Reserve Bank on or about August 17, 2006.

How will your check be processed by the Federal Reserve Banking system after it is deposited by TSA?

Upon receipt of a paper check for a payment, the Federal Reserve Banking system will convert your check into an electronic funds transfer (EFT). The Federal Reserve Bank will make a copy of your check and use the account information on it to debit your account electronically for the amount of the check. The debit from your account will usually occur within 24 hours, and will be shown on your regular account statement. You will not receive the original check back. The Federal Reserve Bank will destroy the original paper check, but will maintain an electronic copy of it. If the EFT cannot be processed for technical reasons, the copy will be processed in place of the original check. If the Federal Reserve Bank cannot complete the EFT because of insufficient funds, it may attempt the transfer up to two times.

Issued in Arlington, Virginia, on July 14, 2006.
David R. Nicholson,
Assistant Administrator for Finance & Administration/Chief Financial Officer.

[FR Doc. 06-6356 Filed 7-14-06; 4:02 pm]

BILLING CODE 9110-05-P